SURFACE TRANSPORTATION BOARD

[Docket No. FD 36879]

Georgiana & Andalusia Railroad, LLC—Change in Operator Exemption—Rail Line in Butler, Conecuh, and Covington Counties, Ala.

Georgiana & Andalusia Railroad, LLC (GAR), a noncarrier, has filed a verified notice of exemption under 49 CFR 1150.31 to replace Three Notch Railway, L.L.C. (TNHR), as the operator on two rail lines in southern Alabama: (1) a 33-mile line between an interchange point with CSX Transportation, Inc. (CSXT), at approximately right-of-way station 22+57 in Georgiana, Ala., and approximately milepost 581.3 in Andalusia, Ala. (the Georgiana Line), and (2) a 2.64-mile line between a connection with the Georgiana Line at approximately milepost S428+2986 feet and approximately milepost S425+4905 feet, both in Andalusia (the Andalusia Line) (collectively the Lines).¹

¹ GAR notes that the verified notice of exemption filed in Three Notch Railway—Acquisition & Operation Exemption—Three Notch Railroad., FD 35488 (STB served Apr. 22, 2011), misstated the length of the Lines as 34 miles. GAR also notes that the mileposts in the 2011 verified notice for the Andalusia Line differ from those here due to the line have been resurveyed. Lastly, GAR notes that the 2011 verified notice referred to Three Notch Railway, L.L.C., as “TNRW” and the previous operator, Three Notch Railroad Co., Inc., as “TNHR.” GAR states that it refers to the current operator as TNHR to maintain consistency with its transactional documentation.

According to the verified notice, GAR will purchase from TNHR the track and rail-related improvements on the Georgiana Line and will assume by assignment TNHR's lease from CSXT for the land underlying the Georgiana Line.² GAR further states that it will assume by assignment TNHR's lease of the Andalusia Line from Andalusia & Conecuh Railroad Company (A&C).³ GAR has agreed in principle with TNHR, CSXT, and A&C on the proposed transaction, under which GAR will replace TNHR as operator and assume the common carrier obligation on the Lines.⁴

² GAR states that it intends to enter into an agreement with CSXT that will amend and restate the lease immediately upon GAR's acquisition of the track and rail-related improvements from TNHR.

³ According to GAR, all of these agreements will take effect simultaneously.

⁴ The verified notice states that TNHR agrees to GAR's assumption of the common carrier obligation.

This transaction is related to a concurrently filed verified notice of exemption in Macquarie Infrastructure Partners V GP, LLC—Continuance in Control Exemption—Georgiana & Andalusia Railroad, Docket No. FD 36880, in which Macquarie Infrastructure Partners V GP, LLC—on behalf of itself and the Macquarie Infrastructure Partners V fund vehicle; MIP V Rail, LLC; Pinsly Holdco, LLC; and Pinsly Railroad Company, LLC—seek to continue in control of GAR upon GAR's becoming a Class III rail carrier.

GAR certifies that the agreement governing the transaction does not include any provision that may limit future interchange with a third-party connecting carrier. GAR also certifies that its projected annual revenues as a result of this transaction will not result in its becoming a Class II or Class I rail carrier and that its projected annual revenue will not exceed $5 million.

Under 49 CFR 1150.32(b), a change in operator requires that notice be given to shippers. GAR certifies that it has provided a copy of its verified notice of exemption to all customers on the Lines.

The transaction may be consummated on or after October 4, 2025, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than September 26, 2025 (at least seven days before the exemption becomes effective).

All pleadings, referring to Docket No. FD 36879, must be filed with the Surface Transportation Board either via e-filing on the Board's website or in writing addressed to 395 E Street SW, Washington, DC 20423-0001. In addition, a copy of each pleading must be served on GAR's representative, Theodore L. Hunt, Dentons US LLP, 1900 K Street NW, Washington, DC 20006.

According to GAR, this action is categorically excluded from environmental review under 49 CFR 1105.6(c) and from historic preservation reporting requirements under 49 CFR 1105.8(b).

Board decisions and notices are available at www.stb.gov.

Decided: September 12, 2025.
By the Board, Anika S. Cooper, Chief Counsel, Office of Chief Counsel.
Zantori Dickerson,
Clearance Clerk.

[FR Doc. 2025-18113 Filed 9-18-25; 8:45 am]

BILLING CODE 4915-01-P